DEPARTMENT OF VETERANS AFFAIRS

[OMB Control No. 2900-0712]

Agency Information Collection Activity: Survey of Healthcare Experiences of Patients (SHEP)

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Comments must be submitted on or before February 16, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0712” in any correspondence.

FOR FURTHER INFORMATION CONTACT: Cynthia Harvey-Pryor, Office of Quality, Privacy and Risk (OQPR), Department of Veterans Affairs, 810 Vermont Avenue NW, Washington, DC 20420, (202) 461-5870 or email cynthia.harvey-pryor@va.gov. Please refer to “OMB Control No. 2900-0712” in any correspondence.

SUPPLEMENTARY INFORMATION:

Authority: E.O. 12862—Setting Customer Service Standards.

Title: Survey of Healthcare Experiences of Patients (SHEP).

SHEP Inpatient Long Form: 10-1465-1

SHEP Inpatient Short Form: 10-1465-2

Ambulatory Care Long Form: 10-1465-3

Ambulatory Care Short Form: 10-1465-4

Clinician and Group CAHPS 3.0 Patient Centered Medical Home Short Form: 10-1465-5

Clinician and Group CAHPS 3.0 Patient Centered Medical Home Long Form: 10-1465-6

Home Healthcare CAHPS Long Form: 10-1465-7

In-Center Hemodialysis CAHPS Long Form: 10-1465-8

Clinician & Group CAHPS 3.0: 10-1465-9

SHEP Community Care survey: 10-1465-10

OMB Control Number: 2900-0712.

Type of Review: Reinstatement of a currently approved collection.

Abstract: The Survey of Health Experience of Patients (SHEP) has been developed to measure patient satisfaction in the Veterans Health Administration, and has been in use in its present form since 2008. The mission of the Veterans Health Administration (VHA) is to provide high quality medical care to eligible veterans. Executive Order 12862, dated September 11, 1993, calls for the establishment and implementation of customer service standards, and for agencies to “survey customers to determine the kind and quality of services they want and their level of satisfaction with current services”. Further emphasized by the Executive Order 13571, on “Streamlining Service Delivery and Improving Customer Service,” issued on April 27, 2011, VA must work continuously to ensure that their programs are effective and meet their customers' needs. To this end, VA is always seeking new and innovative ways to ensure the highest levels of customer satisfaction.

An agency may not conduct or sponsor, and a person is not required to respond to a collection of information unless it displays a currently valid OMB control number. The Federal Register Notice with a 60-day comment period soliciting comments on this collection of information was published at 82 FR 50488 on October 31, 2017, pages 50488.

Affected Public: Individuals or Households.

Estimated Annual Burden:

10-1465-1—160 hours.

10-1465-2—18,000 hours.

10-1465-3—160 hours.

10-1465-4—120 hours.

10-1465-5—48,000 hours.

10-1465-6—8,000 hours.

10-1465-7—80 hours.

10-1465-8—120 hours.

10-1465-9—30,000 hours.

10-1465-10—72,000 hours.

Estimated Average Burden per Respondent:

10-1465-1—20 minutes.

10-1465-2—15 minutes.

10-1465-3—20 minutes.

10-1465-4—15 minutes.

10-1465-5—10 minutes.

10-1465-6—20 minutes.

10-1465-7—10 minutes.

10-1465-8—15 minutes.

10-1465-9—15 minutes.

10-1465-10—15 minutes.

Frequency of Response: Annually.

Estimated Number of Respondents:

10-1465-1—480.

10-1465-2—72,000.

10-1465-3—480.

10-1465-4—480.

10-1465-5—288,000.

10-1465-6—24,000.

10-1465-7—480.

10-1465-8—480.

10-1465-9—120,000.

10-1465-10—288,000.

By direction of the Secretary.
Cynthia Harvey-Pryor,
Department Clearance Officer, Office of Quality, Privacy and Risk, Department of Veterans Affairs.

[FR Doc. 2018-00651 Filed 1-16-18; 8:45 am]

BILLING CODE 8320-01-P